INTERNATIONAL TRADE COMMISSION

[USITC SE-17-024]

Sunshine Act Meeting

AGENCY HOLDING THE MEETING: United States International Trade Commission.

TIME AND DATE: June 2, 2017 at 11:00 a.m.

PLACE: Room 101, 500 E Street SW., Washington, DC 20436.

Telephone: (202) 205-2000.

STATUS: Open to the public.

MATTERS TO BE CONSIDERED:

1. Agendas for future meetings: none

2. Minutes

3. Ratification List

4. Vote in Inv. Nos. 701-TA-576-577 and 731-TA-1362-1367 (Preliminary) (Cold-Drawn Mechanical Tubing from China, Germany, India, Italy, Korea, and Switzerland). The Commission is currently scheduled to complete and file its determinations on June 5, 2017; views of the Commission are currently scheduled to be complete and filed on June 12, 2017.

5. Vote in Inv. No. 731-TA-287 (Second Review) (Raw-in-Shell Pistachios from Iran). The Commission is currently scheduled to complete and file its determination and views of the Commission by June 26, 2017.

6. Outstanding action jackets: None

In accordance with Commission policy, subject matter listed above, not disposed of at the scheduled meeting, may be carried over to the agenda of the following meeting.

By order of the Commission.
Issued: May 25, 2017.
Lisa R. Barton,
Secretary to the Commission.

[FR Doc. 2017-11172 Filed 5-25-17; 11:15 am]

BILLING CODE 7020-02-P